NATIONAL ARCHIVES AND RECORDS ADMINISTRATION

[NARA-2015-031]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules.

DATES: NARA must receive requests for copies in writing by April 17, 2015. Once NARA completes appraisal of the records, we will send you a copy of the schedule you requested. NARA staff usually prepare appraisal memoranda that contain additional information concerning the records covered by a proposed schedule. You may also request these and we will provide them once we have completed the appraisal as well. You have 30 days after we send the documents in which to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. If you would also like the appraisal reports, please say so in your request.

FOR FURTHER INFORMATION CONTACT: Margaret Hawkins, Director, Records Management Services (ACNR), by mail at: National Archives and Records Administration; 8601 Adelphi Road; College Park, MD 20740-6001, by telephone at 301-837-1799, or by email at request.schedule@nara.gov.

SUPPLEMENTARY INFORMATION: Each year Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of individuals directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Logistics Agency (DAA-0361-2014-0013, 1 item, 1 temporary item). Master files of an electronic information system that contains records relating to criminal incidents that occurred at agency facilities.

2. Department of Defense, Defense Logistics Agency (DAA-0361-2014-0014, 2 items 2 temporary items). Master files of an electronic information system that contains records relating to personnel security background investigations.

3. Department of Defense, Defense Logistics Agency (DAA-0361-2015-0004, 1 item 1 temporary item). Records documenting fuel deliveries to naval ships or shore facilities.

4. Department of Defense, National Reconnaissance Office (N1-525-14-1, 1 item, 1 temporary item). Records related to administrative information technology and communications policy files.

5. Department of the Navy, Office of the General Counsel (DAA-0428-2015-0001, 1 item, 1 temporary item). Master files of an electronic information system used to track, organize, and view legal discovery documents.

6. Department of State, Bureau of Energy Resources (DAA-0059-2015-0002, 3 items, 3 temporary items). Records of the Office of Energy Diplomacy including project files, working files, and background material.

7. Department of Veterans Affairs, Office of Congressional and Legislative Affairs (DAA-0015-2014-0003, 1 item, 1 temporary item). Records relating to audits and performance reviews including comments, drafts, and final reports.

8. Court Services and Offenders Supervision Agency for the District of Columbia, Community Justice Programs (DAA-0562-2013-0004, 1 item, 1 temporary item). Master files of an electronic information system used to generate substance abuse treatment plans for defendants and offenders.

9. Court Services and Offenders Supervision Agency for the District of Columbia, Community Supervision Services (DAA-0562-2013-0011, 1 item, 1 temporary item). Case files of offenders under probation or parole.

10. Court Services and Offenders Supervision Agency for the District of Columbia, Community Supervision Services (DAA-0562-2013-0023, 1 item, 1 temporary item). Master files of an electronic information system used to manage the physical location of offender case files.

11. Court Services and Offenders Supervision Agency for the District of Columbia, Community Supervision Services (DAA-0562-2013-0025, 1 item, 1 temporary item). Master files of an electronic information system used to track the physical location of supervised offenders wearing tracking devices.

12. Court Services and Offenders Supervision Agency for the District of Columbia, Pretrial Services Agency (DAA-0562-2013-0026, 1 item, 1 temporary item). Master files of an electronic information system used to determine pre-trial release conditions and compliance of defendants.

13. National Archives and Records Administration, Research Services (N2-70-14-1, 2 items, 2 temporary items). Records of the Bureau of Mines, consisting of Petroleum Division records relating to petroleum in foreign countries and Technical Cooperation Administration country files. These records were accessioned to the National Archives but lack sufficient historical value to warrant their continued preservation.

14. Recovery Accountability and Transparency Board, Agency-wide (DAA-0220-2014-0015, 11 items, 11 temporary items). Web site and social media records including content, media, and management and support files.

Dated: March 11, 2015.
Paul M. Wester, Jr.,
Chief Records Officer for the U.S. Government.

[FR Doc. 2015-06186 Filed 3-17-15; 8:45 am]

BILLING CODE 7515-01-P